DEPARTMENT OF HEALTH AND HUMAN SERVICES

Health Resources and Services Administration

Agency Information Collection Activities: Proposed Collection: Public Comment Request

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 28, 2023.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the HRSA Information Collection Clearance Officer, at (301) 594-4394.

SUPPLEMENTARY INFORMATION: When submitting comments or requesting information, please include the information collection request title for reference.

Information Collection Request Title: Enhancing HIV Care of Women, Infants, Children and Youth Building Capacity through Communities of Practice OMB No. 0915-xxxx-New.

Abstract: HRSA aims to increase delivery of evidence-based interventions that enhance client outcomes, increase the skill level of the HIV workforce providing care and treatment to Women, Infants, Children and Youth, and involve partnerships for dissemination of best practices to Ryan White HIV/AIDS Program (RWHAP) Part D participants. To that end, HRSA seeks to implement a Communities of Practice (CoP) platform for RWHAP Part D recipients. A CoP engages recipient teams in improvement learning sessions using subject matter experts along with application experts who help recipient teams select, test, and implement changes on the front line of care. Through organizational self-assessments, didactic learning on specific care topics, goals setting, and work plan development, each team can strategically benefit their organization. CoPs afford participants the opportunity to work in a group to solve a recognized challenge related to a CoP domain and support dialogue among participants and the consultant/subject matter experts. Recipient teams commit to working over a period of 12 months, alternating between Learning Sessions in which teams come together to learn about the chosen topic and to plan changes, and Action Periods in which the teams return to their respective organizations and test those changes in their clinic settings. The domains for the proposed CoPs are trauma informed care, pre-conception counseling, and youth transitioning into adult HIV care services.

Need and Proposed Use of the Information: Process and outcome evaluations are a critical part of ensuring that CoP initiatives were implemented as planned and met their intended outcome. Evaluation of technical assistance (TA) depends on establishing clear goals and plans from the beginning of the process. This includes specifying the intended impact of the TA with concrete, measurable objectives. To judge performance against goals, HRSA will administer TA evaluation surveys following TA and training, webinars, teleconferences, and meetings. Findings will drive quality improvement activities and reports.

The evaluation plan focuses on process and impact evaluation of all CoP Teams (Pre-Conception Counseling and Sexual Health, Trauma-Informed Care, and Transitioning Adolescents to Adult Care) over the duration of the 4-year period of performance. The evaluation plan components will be operationalized to include TA satisfaction measures (reaction), change in knowledge after the TA (learning), and change in behavior or practice after the introduction of evidence-based interventions (behavior). More specifically, the evaluation plan includes (1) post TA satisfaction measures, (2) pre-post measures of CoP staff knowledge about effective practices, (3) retrospective measures to gather measures of CoP staff knowledge for the first community of practice only, and (4) measures of TA usefulness and impact on CoP performance.

Likely Respondents: Up to 90 RWHAP Part D Women, Infant, Children, Youth recipients will participate in the CoPs. Each recipient may have up to six staff members who may complete the survey.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Pre-conception Counseling Community of Practice Retrospective Pretest-Post Assessment | 90 | 1 | 90 | .4733 | 42.6
Community of Practice Pre-Assessment | 180 | 1 | 180 | .2900 | 52.2
Community of Practice Post-Assessment | 180 | 1 | 180 | .3767 | 67.8
Community of Practice Session Assessment | 270 | 6 | 1,620 | .0767 | 124.3
Targeted and Intensive TA Assessment | 120 | 1 | 120 | .0833 | 10.0
Foundational TA Assessment | 150 | 1 | 150 | .0616 | 9.2
| 990 |  | 2,340 |  | 306.1

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-03911 Filed 2-24-23; 8:45 am]

BILLING CODE 4165-15-P